ENVIRONMENTAL PROTECTION AGENCY

[ER-FRL-9059-3]

Environmental Impact Statements; Notice of Availability

Responsible Agency: Office of Federal Activities, General Information 202-564-5632 or https://www.epa.gov/nepa.

Weekly receipt of Environmental Impact Statements (EIS)

Filed November 1, 2021 10 a.m. EST Through November 5, 2021 10 a.m. EST

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20210168, Final Supplement, USACE, CA, American River Common Features Water Resources Development Act of 2016, American River Contract 2, Review Period Ends: 12/13/2021, Contact: Nathaniel J. Martin 916-317-4021.

EIS No. 20210169, Draft Supplement, NRC, WI, License Renewal of Nuclear Plants Supplement 23 Second Renewal Regarding Subsequent License Renewal for Point Beach Nuclear Plant Units 1 and 2, Comment Period Ends: 01/03/2022, Contact: Phyllis Clark 301-415-6447.

EIS No. 20210170, Draft, FERC, UT, Delta Lateral Project, Comment Period Ends: 12/27/2021, Contact: Office of Externals Affairs 866-208-3372.

EIS No. 20210171, Fourth Draft Supplemental, USACE, CA, Folsom Dam Raise Modifications Project Draft Supplemental Environmental Impact Statement/Environmental Impact Report, Comment Period Ends: 12/27/2021, Contact: Kimberly Watts 916-557-7770.

EIS No. 20210172, Draft Supplement, BR, CA, Sites Reservoir Project Revised Draft Environmental Impact Report/Supplemental Draft Environmental Impact Statement, Comment Period Ends: 01/11/2022, Contact: Vanessa King 916-978-5077.

Amended Notice

EIS No. 20210149, Draft Supplement, FHWA, MD, I-495 & I-270 Managed Lanes Study Supplemental Draft Environmental Impact Statement and Updated Draft Section 4(f) Evaluation, Comment Period Ends: 11/30/2021, Contact: Jeanette Mar 410-779-7152. Revision to FR Notice Published 10/01/2021; Extending the Comment Period from 11/15/2021 to 11/30/2021.

Dated: November 5, 2021.
Cindy S. Barger,
Director, NEPA Compliance Division, Office of Federal Activities.

[FR Doc. 2021-24666 Filed 11-10-21; 8:45 am]

BILLING CODE 6560-50-P